DEPARTMENT OF DEFENSE

Office of the Secretary

Renewal of Missile Defense Advisory Committee

AGENCY: DoD.

ACTION: Renewal of Federal Advisory Committee.

SUMMARY: Under the provisions of the Federal Advisory Committee Act of 1972 (5 U.S.C. Appendix), the Government in the Sunshine Act of 1976 (5 U.S.C. 552b), and 41 CFR 102-3.50(d), the Department of Defense gives notice that it is renewing the charter for the Missile Defense Advisory Committee (hereafter referred to as “the Committee”).

The Committee shall provide the Secretary of Defense, through the Under Secretary of Defense for Acquisition, Technology, and Logistics and the Director, Missile Defense Agency (MDA), independent advice and recommendations on all matters relating to missile defense, including system development, technology, program maturity and readiness of configurations for the Ballistic Missile Defense System.

The Committee shall be composed of not more than eleven Committee members, who are eminent authorities in the field of national defense policy, acquisition and technical areas relating to Ballistic Missile Defense System Programs including distinguished members of academia and the science and technology communities; Federally Funded Research and Development Centers (FFRDCs)/National Laboratories and industry.

Committee members shall be appointed by the Secretary of Defense and their appointments will be renewed on an annual basis. Those members, who are not full-time or permanent part-time federal officers or employees, shall be appointed as experts and consultants under the authority of 5 U.S.C. 3109 and serve as special government employees. With the exception of travel and per diem for official Committee related travel, Committee members shall serve without compensation, unless authorized by the Secretary of Defense.

Committee members may be appointed for term of service ranging from one-to-two years. Unless authorized by the Secretary of Defense, no member may serve more than two consecutive terms of service. This same term of service limitation also applies to any DoD authorized subcommittees.

The Secretary of Defense, based upon the recommendation of the Under Secretary of Defense for Acquisition, Technology, and Logistics, shall appoint the Committee's Chairperson from the total Committee membership. The Under Secretary of Defense Acquisition, Technology, and Logistics, shall appoint the Vice Chairperson, based on the recommendation of the Director, MDA. The Committee Chairperson and Vice Chairperson may serve a term of service of one-to-two years and may serve more than one term of service, not to exceed two terms, and not to exceed their maximum allowed membership on the Committee; however, with the concurrence of the appointing authority, may be reappointed in these positions for additional terms.

The Under Secretary of Defense for Acquisition, Technology, and Logistics, pursuant to DoD policies/procedures, may appoint, as deemed necessary, experts and consultants, with special expertise, to assist the Committee on an ad hoc basis. These experts and consultants, if not full-time or part time government employees, shall be appointed under the authority of 5 U.S.C. 3109, shall serve as special government employees, shall be appointed on an intermittent basis to work specific Committee-related efforts, and shall have no voting rights. Non-voting experts and consultants shall serve terms of appointments as determined by the Under Secretary of Defense for Acquisition, Technology, and Logistics, according to DoD policy/procedures. Non-voting experts and consultants appointed by the Under Secretary of Defense for Acquisition, Technology, and Logistics shall not count toward the Committee's total membership.

Each Committee member is appointed to provide advice on behalf of the government on the basis of his or her best judgment without representing any particular point of view and in a manner that is free from conflict of interest.

The Department, when necessary and consistent with the Committee's mission and DoD policies and procedures, may establish subcommittees to support the Committee. Establishment of subcommittees will be based upon a written determination, to include terms of reference, by the Secretary of Defense, the Deputy Secretary of Defense, or the Under Secretary of Defense for Acquisition, Technology, and Logistics.

The Committee has established three permanent subcommittees: The Technical Subcommittee, Geopolitical Subcommittee, and the Agency Strategic Operations Subcommittee which are comprised of members who are eminent authorities in the fields of science, technology, manufacturing, acquisition process, system development, national defense policy and other matters of special interest to the DoD and MDA.

a. The Technical Subcommittee shall be comprised of no more than seven members. The primary focus of the Subcommittee is to conduct independent reviews and assessments of topics deemed critical by the Secretary of Defense, Deputy Secretary of Defense, and Under Secretary of Defense for Acquisition, Technology, and Logistics including application of technology to improve missile defense capabilities and quality and relevance of missile defense science, engineering and technology programs; and system development. The estimated number of subcommittee meeting is up to four per year.

b. The Geopolitical Subcommittee shall be comprised of no more than six members. The primary focus of the Subcommittee is to conduct independent reviews and assessments of topics deemed critical by the Secretary of Defense, Deputy Secretary of Defense, and Under Secretary of Defense for Acquisition, Technology, and Logistics including issues central to missile defense strategic priorities and policy implications of United States defense strategies; program maturity and readiness of configurations; national defense policy and acquisition. The estimated number of subcommittee meetings is up to four per year.

c. The Agency Strategic Operations Subcommittee shall be comprised of no more than six members. The primary focus of the Subcommittee is to conduct independent reviews and assessments of quick reaction and ad hoc topics deemed critical by the Secretary of Defense, Deputy Secretary of Defense, Under Secretary of Defense for Acquisition, Technology, and Logistics, and Director, Missile Defense Agency. The estimated number of subcommittee meeting is up to four per year.

These subcommittees shall not work independently of the chartered Committee, and shall report all their recommendations and advice to the Committee for full deliberation and discussion. These subcommittees have no authority to make decisions on behalf of the chartered Committee; nor can any subcommittee or its members update or report directly to the DoD or any Federal officers or employees who are not Committee members.

All subcommittee members shall be appointed in the same manner as the Committee members; that is, the Secretary of Defense shall appoint subcommittee members even if the member in question is already a Committee member. Subcommittee members, with the approval of the Secretary of Defense, may serve a term of service on the subcommittee of one-to-two years, with annual renewals. No member shall serve more than two consecutive terms of service on the subcommittee; however, with the concurrence of the appointing authority, may be reappointed in these positions for additional terms.

Subcommittee members, if not full-time or part-time government employees, shall be appointed to serve as experts and consultants under the authority of 5 U.S.C. 3109, and shall serve as special government employees, whose appointments must be renewed by the Secretary of Defense on an annual basis. With the exception of travel and per diem for official Committee-related travel, subcommittee members shall serve without compensation.

All subcommittees operate under the provisions of FACA, the Government in the Sunshine Act, governing Federal statutes and regulations, and governing DoD policies/procedures.

FOR FURTHER INFORMATION CONTACT: Jim Freeman, Advisory Committee Management Officer for the Department of Defense, 703-692-5952.

SUPPLEMENTARY INFORMATION: The Committee shall meet at the call of the Designated Federal Officer, in consultation with the Chairperson. The estimated number of Committee meetings is four per year.

In addition, the Designated Federal Officer is required to be in attendance at all Committee and subcommittee meetings for the entire duration of each and every meeting; however, in the absence of the Designated Federal Officer, a properly approved Alternate Designated Federal Officer shall attend the entire duration of the Committee or subcommittee meeting.

The Designated Federal Officer, or the Alternate Designated Federal Officer, shall call all of the Committee's and subcommittee's meetings; prepare and approve all meeting agendas; adjourn any meeting when the Designated Federal Officer, or the Alternate Designated Federal Officer, determines adjournment to be in the public interest or required by governing regulations or DoD policies/procedures; and chair meetings when directed to do so by the official to whom the Committee reports.

Pursuant to 41 CFR 102-3.105(j) and 102-3.140, the public or interested organizations may submit written statements to Missile Defense Advisory Committee membership about the Committee's mission and functions. Written statements may be submitted at any time or in response to the stated agenda of planned meeting of Missile Defense Advisory Committee.

All written statements shall be submitted to the Designated Federal Officer for the Missile Defense Advisory Committee, and this individual will ensure that the written statements are provided to the membership for their consideration. Contact information for the Missile Defense Advisory Committee's Designated Federal Officer can be obtained from the GSA's FACA Database— https://www.fido.gov/facadatabase/public.asp.

The Designated Federal Officer, pursuant to 41 CFR 102-3.150, will announce planned meetings of the Missile Defense Advisory Committee. The Designated Federal Officer, at that time, may provide additional guidance on the submission of written statements that are in response to the stated agenda for the planned meeting in question.

Dated: August 22, 2012.
Aaron Siegel,
Alternate OSD Federal Register Liaison Officer, Department of Defense.

[FR Doc. 2012-21094 Filed 8-27-12; 8:45 am]

BILLING CODE 5001-06-P